DEPARTMENT OF JUSTICE

Drug Enforcement Administration

Manufacturer of Controlled Substances; Notice of Registration

By Notice dated June 23, 2011, and published in the Federal Register on July 5, 2011, 76 FR 39127, Cayman Chemical Company, 1180 East Ellsworth Road, Ann Arbor, Michigan 48108, made application by renewal to the Drug Enforcement Administration (DEA) to be registered as a bulk manufacturer of the following basic classes of controlled substances:

Drug | Schedule
Cathinone (1235) | I
Methcathinone (1237) | I
N-Ethylamphetamine (1475) | I
N,N-Dimethylamphetamine (1480) | I
Aminorex (1585) | I
4-Methylaminorex (cis isomer) (1590) | I
1-Pentyl-3-(1-naphthoyl)indole (7118) | I
1-Butyl-3-(1-naphthoyl)indole (7173) | I
1-[2-(4-Morpholinyl)ethyl]-3-(1-naphthoyl) Indole (7200) | I
Alpha-ethyltryptamine (7249) | I
5-(1,1-Dimethylheptyl)-2-[(1R,3S)-3-hydroxycyclohexyl]-phenol (7297) | I
5-(1,1-Dimethyloctyl)-2-[(1R,3S)-3-hydroxycyclohexyl]-phenol (7298) | I
Lysergic acid diethylamide (7315) | I
2,5-Dimethoxy-4-(n)-propylthiophenethylamine (7348) | I
Marihuana (7360) | I
Tetrahydrocannabinols (7370) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Diethyltryptamine (7434) | I
Dimethyltryptamine (7435) | I
5-Methoxy-N,N-diisopropyltryptamine (7439) | I
Amphetamine (1100) | II
Methamphetamine (1105) | II
Lisdexamfetamine (1205) | II

The company plans to manufacture small quantities of marihuana derivatives for research purposes. In reference to drug code 7360 (Marihuana), the company plans to bulk manufacture cannabidiol. In reference to drug code 7370 (Tetrahydrocannabinols), the company will manufacture a synthetic THC. No other activity for this drug code is authorized for this registration.

No comments or objections have been received. DEA has considered the factors in 21 U.S.C. 823(a) and determined that the registration of Cayman Chemical Company to manufacture the listed basic classed of controlled substances is consistent with the public interest at this time. DEA has investigated Cayman Chemical Company to ensure that the company's registration is consistent with the public interest. The investigation has included inspection and testing of the company's physical security systems, verification of the company's compliance with state and local laws, and a review of the company's background and history. Therefore, pursuant to 21 U.S.C. 823(a), and in accordance with 21 CFR 1301.33, the above named company is granted registration as a bulk manufacturer of the basic classes of controlled substances listed.

Dated: January 23, 2012.
Joseph T. Rannazzisi,
Deputy Assistant Administrator, Office of Diversion Control, Drug Enforcement Administration.

[FR Doc. 2012-1977 Filed 1-30-12; 8:45 am]

BILLING CODE 4410-09-P